DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Notification of Intent To Use Schedule III, IV, or V Opioid Drugs for the Maintenance and Detoxification Treatment of Opioid Addiction Under 21 U.S.C. 823(g)(2)

—(New)—The Drug Addiction Treatment Act of 2000 (“DATA,” Pub. L. 106-310 (21 U.S.C. 823(g)(2)) amended the Controlled Substances Act to permit practitioners (physicians) to seek and obtain waivers to prescribe certain approved narcotic treatment drugs for the treatment of opiate addiction. The legislation sets eligibility requirements and certification requirements as well as an interagency application process for physicians who seek waivers.

To implement these new provisions, SAMHSA has developed a notification form to permit it to determine whether practitioners (i.e., individual physicians and physicians in group practices (as defined under section 1877(h)(4) of the Social Security Act, licensed to practice medicine) meet the qualifications for waivers set forth under the new law. The information entered on the form will assist SAMHSA in determining whether practitioners are eligible for a waiver. The Secretary will convey practitioner determination to the Drug Enforcement Administration (DEA), which will assign an identification number to qualifying practitioners; this number will be included in the practitioner's registration under 21 U.S.C. 823(f). Practitioners will also use this notification form to renew their waivers at the time they renew their DEA practitioner registration—every three years.

Practitioners will use the form for three types of notification: (a) New, (b) emergency, and (c) renewal. Under “new” notifications, practitioners will make their initial waiver requests to SAMHSA. “Emergency” notifications will inform SAMHSA and the Attorney General of a practitioner's intent to prescribe immediately to facilitate the treatment of an individual (one) patient under 21 U.S.C. 823(g)(2)(E)(ii). “Renewal” notifications will be submitted to HHS to initiate review of an identification number already provided by DEA.

The form will collect data on the following items: Practitioner name; state medical license number and DEA registration number; address of primary location, telephone and fax numbers; e-mail address; name and address of group practice; group practice employer identification number; names and DEA registration numbers of group practitioners; purpose of notification (new, emergency, or renewal); name of narcotic drugs or combinations for use under the notification; certification of qualifying criteria for treatment and management of opiate-dependent patients; certification of capacity to refer patients for appropriate counseling and other appropriate ancillary services; certification of maximum patient load.

At present, there are no narcotic drugs or combinations for use under notifications; however, SAMHSA believes that it is appropriate to develop a notification system to implement DATA in anticipation of narcotic treatment medications becoming available in the future. Respondents will be able to submit the form electronically, through a dedicated Web page that SAMHSA will establish for the purpose, as well as via U.S. mail.

The following table summarizes the estimated annual burden for the use of this form.

Purpose of submission | Number of respondents | Responses per respondent | Burden per response (hr.) | Total burden (hrs.)
Initial Application for Waiver | 1,200 | 1 | .083 | 100
Notification to Prescribe Immediately | 33 | 1 | .083 | 3
Application for Renewal | 1,200 | 1 | .083 | 100
Total | 1,200 |  |  | 203

Send comments to Nancy Pearce, SAMHSA Reports Clearance Officer, Room 16-105, Parklawn Building, 5600 Fishers Lane, Rockville, MD 20857. Written comments should be received within 60 days of this notice.

Dated: November 29, 2001.
Richard Kopanda,
Executive Officer, Substance Abuse and Mental Health Services Administration.

[FR Doc. 01-30234 Filed 12-5-01; 8:45 am]

BILLING CODE 4162-20-P